DEPARTMENT OF TRANSPORTATION

Federal Aviation Administration

14 CFR Part 39

[Docket No. FAA-2007-0349 Directorate Identifier 2007-CE-094-AD; Amendment 39-15366; AD 2008-03-15]

RIN 2120-AA64

Airworthiness Directives; EADS SOCATA Model TBM 700 Airplanes

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as:

A non-respect of the pilot door adjustment procedure could have damaged the stop fitting and could result in a consequent depressurization of the airplane.

We are issuing this AD to require actions to correct the unsafe condition on these products.

DATES: This AD becomes effective March 11, 2008.

On March 11, 2008, the Director of the Federal Register approved the incorporation by reference of EADS SOCATA TBM Aircraft Mandatory Service Bulletin SB 70-131, Amendment 1, dated June 2007, listed in this AD.

As of March 23, 2007 (72 FR 7559, February 16, 2007), the Director of the Federal Register approved the incorporation by reference of EADS SOCATA TBM Aircraft Mandatory Service Bulletin SB 70-131, dated July 2005, listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Albert J. Mercado, Aerospace Engineer, FAA, Small Airplane Directorate, 901 Locust, Room 301, Kansas City, Missouri, 64106; telephone: (816) 329-4119; facsimile: (816) 329-4090.

SUPPLEMENTARY INFORMATION:

Discussion

We issued a notice of proposed rulemaking (NPRM) to amend 14 CFR part 39 to include an AD that would apply to the specified products. That NPRM was published in the Federal Register on December 17, 2007 (72 FR 71279) and proposed to supersede AD 2007-04-08, Amendment 39-14939 (72 FR 7559, February 16, 2007). That NPRM proposed to correct an unsafe condition for the specified products. The MCAI states:

A non-respect of the pilot door adjustment procedure could have damaged the stop fitting and could result in a consequent depressurization of the airplane.

This AD requires you to inspect the pilot door locking stop fittings for correct length and replace any incorrect length pilot door locking stop fittings found.

You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

Based on the service information, we estimate that this AD will affect about 157 products of U.S. registry. We also estimate that it will take about 4.5 work-hours per product to comply with the basic requirements of this AD. The average labor rate is $80 per work-hour. Required parts will cost about $15 per product.

Based on these figures, we estimate the cost of the AD on U.S. operators to be $58,875, or $375 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14939 (72 FR 7559, February 16, 2007), and adding the following new AD:

2008-03-15 EADS SOCATA: Amendment 39-15366; Docket No. FAA-2007-0349; Directorate Identifier 2007-CE-094-AD.

Effective Date

(a) This airworthiness directive (AD) becomes effective March 11, 2008.

Affected ADs

(b) This AD supersedes AD 2007-04-08, Amendment 39-14939.

Applicability

(c) This AD applies to Model TBM 700 airplanes, serial numbers 126 through 322, that are:

(1) Equipped with a pilot door; and

(2) Certificated in any category.

Subject

(d) Air Transport Association of America (ATA) Code 53: Fuselage.

Reason

(e) The mandatory continuing airworthiness information (MCAI) states:

A non-respect of the pilot door adjustment procedure could have damaged the stop fitting and could result in a consequent depressurization of the airplane.

This AD requires you to inspect the pilot door locking stop fittings for correct length and replace any incorrect length pilot door locking stop fittings found.

Requirements Retained From AD 2007-04-08

(f) Unless already done, inspect the pilot door locking stop-fittings for correct length within 30 days after March 23, 2007 (the effective date of AD 2007-04-08). Do the inspection following EADS SOCATA TBM Aircraft Mandatory Service Bulletin SB 70-131, dated July 2005 or EADS SOCATA TBM Aircraft Mandatory Service Bulletin SB 70-131, Amendment 1, dated June 2007.

New Requirements of This AD: Actions and Compliance

(g) Do the following actions, unless already done:

(1) Any incorrect length pilot door locking stop-fittings replaced following the inspection required in paragraph (f) of this AD in accordance with AD 2007-04-08, using the original issue of EADS SOCATA TBM Aircraft Mandatory Service Bulletin SB 70-131, dated July 2005, must be replaced again within the next 12 months after March 11, 2008 (the effective date of this AD). Do the replacement using EADS SOCATA TBM Aircraft Mandatory Service Bulletin SB 70-131, Amendment 1, dated June 2007.

(2) Any incorrect length pilot door locking stop-fittings found during the inspection required in paragraph (f) of this AD and not previously replaced in accordance with AD 2007-04-08, must be replaced before further flight after March 11, 2008 (the effective date this AD). Do the replacement using EADS SOCATA TBM Aircraft Mandatory Service Bulletin SB 70-131, Amendment 1, dated June 2007.

FAA AD Differences

Note: This AD differs from the MCAI and/or service information as follows: No differences.

Other FAA AD Provisions

(h) The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Special Flight Permit

(i) If you have ordered parts and they are not available, then you may fly unpressurized until parts become available or for a period not to exceed 90 days after the inspection required in paragraph (f) of this AD, whichever occurs first. You must also fabricate and install a placard as described below. Completing the action of paragraph (g)(2) of this AD terminates the placard requirement.

(1) Fabricate (using letters at least ⅛ inch in height) a warning placard that states “This airplane is prohibited from pressurized flight.”

(2) Install the placard in full view of the pilot. The owner/operator holding at least a private pilot certificate as authorized by section 43.7 of the Federal Aviation Regulations (14 CFR 43.7) may install the placard as required in paragraph (h) of this AD.

Related Information

(j) Refer to MCAI Direction générale de l'aviation civile (DGAC) AD No. F-2007-016, October 10, 2007; and EADS SOCATA TBM Aircraft Mandatory Service Bulletin SB 70-131, Amendment 1, dated June 2007, for related information.

Material Incorporated by Reference

(k) You must use EADS SOCATA TBM Aircraft Mandatory Service Bulletin SB 70-131, dated July 2005, or EADS SOCATA TBM Aircraft Mandatory Service Bulletin SB 70-131, Amendment 1, dated June 2007, to do the actions required by this AD, unless the AD specifies otherwise.

(1) The Director of the Federal Register approved the incorporation by reference of EADS SOCATA TBM Aircraft Mandatory Service Bulletin SB 70-131, Amendment 1, dated June 2007, under 5 U.S.C. 552(a) and 1 CFR part 51.

(2) On March 23, 2007 (72 FR 7559, February 16, 2007), the Director of the Federal Register previously approved the incorporation by reference of EADS SOCATA TBM Aircraft Mandatory Service Bulletin SB 70-131, dated July 2005.

(3) For service information identified in this AD, contact EADS SOCATA, Direction des Services, 65921 Tarbes Cedex 9, France; telephone: 33 (0)5 62 41 73 00; fax: 33 (0)5 62 41 76 54; or SOCATA Aircraft, Inc., North Perry Airport, 7501 South Airport Rd., Pembroke Pines, FL 33023; telephone: (954) 893-1400; fax: (954) 964-4141.

(4) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on January 29, 2008.
John Colomy,
Acting Manager, Small Airplane Directorate, Aircraft Certification Service.

[FR Doc. E8-2026 Filed 2-4-08; 8:45 am]

BILLING CODE 4910-13-P